SOCIAL SECURITY ADMINISTRATION

[Docket No. SSA-2012-0036]

Notice of Meeting of the Occupational Information Development Advisory Panel

AGENCY: Social Security Administration (SSA).

ACTION: Notice of upcoming panel teleconference meeting and Request for Comment.

SUMMARY: The Occupational Information Development Advisory Panel (Panel) is a discretionary Panel, established under the Federal Advisory Committee Act of 1972, as amended. The Panel provides independent advice and recommendations to us on the creation of an occupational information system for use in our disability programs and for our adjudicative needs.

Meeting Information

DATES: Thursday, July 5, 2012. Call in number: 877-852-6575, Leader/Host: Leola S. Brooks.

To be sure that your comments are considered, we must receive them no later than June 29, 2012.

SUPPLEMENTARY INFORMATION: Type of meeting: The teleconference meeting is open to the public.

Agenda: The Panel will meet on Thursday, July 5, 2012, from 2 p.m. until 4 p.m. (EDT).

The tentative agenda for this meeting includes: Individual and organizational public comment; Panel discussion and deliberation, and an administrative business meeting.

The Designated Federal Officer will post the meeting agenda on the Internet at http://www.ssa.gov/oidap/meeting_information.html at least one week prior to the start date. You can also receive a copy electronically by email or by fax, upon request. We retain copies of all proceedings available for public inspection, by appointment at the Panel's office.

In addition to notice of this teleconference meeting, the Panel is requesting comment on its Recommendation #9 to us, as determined during deliberation at our June 4, 2012 teleconference meeting. Individuals or organizations may provide testimony during public comment period scheduled for the July 5, 2012 teleconference meeting or in writing.

The Panel will hear public comment during the teleconference meeting from 2:15 p.m. to 3:15 p.m. (EDT). Individuals and organizational representatives must contact the Designated Federal Officer (by email to OIDAP@ssa.gov), to reserve a time slot assigned on a first come, first served basis, for a maximum of ten minutes. You must also submit your testimony in writing; no longer than five (5) pages; in Microsoft Word or other word processing formats (no PDF files accepted); by mail, fax or email to OIDAP@ssa.gov.

In the event that scheduled public comment does not take the entire time allotted, the Panel may use any remaining time to deliberate or conduct other business.

To be sure that we consider your comments, we must receive them no later than Friday, June 29, 2012.

ADDRESSES: You may submit written comments by any one of three methods—Internet, fax or mail. Do not submit the same comments multiple times, or by more than one method. Regardless of which method you choose, please state that your comments refer to Docket No. SSA-2012-0036, so that we may associate your comments with the correct activity.

Caution: You should be careful to include in your comments only information that you wish to make publicly available. We strongly urge you not to include in your comments any personal information, such as Social Security numbers or medical information.

1. Internet: We strongly recommend this method for submitting your comments. Visit the Federal eRulemaking portal at http://www.regulations.gov. Use the Search function of the Web page to find docket number SSA-2012-0036, and then submit your comment. Once you submit your comment, the system will issue you a tracking number to confirm your submission. You will not be able to view your comment immediately as we must manually post each comment. It may take up to a week for your comment to be viewable.

2. Fax: Fax comments to (410) 597-0825.

3. Mail: Address your comments to the Office of Program Development and Research, Office of Vocational Resources Development, Social Security Administration, 3-E-26 Robert M. Ball Building, 6401 Security Boulevard, Baltimore, MD 21235-6401.

Comments are available for public viewing on the Federal eRulemaking portal at http://www.regulations.gov or in person, during regular business hours, by appointment with the contact person identified below.

The Panel is soliciting comments on Recommendation #9, as determined during deliberation at its June 4, 2012 teleconference meeting, which reads:

Continued Transparency and Public Engagement

The OIDAP brought transparency to SSA's occupational information development process that will impact the lives of millions of Americans. We believe SSA must continue this transparency as it develops any occupational information that will affect decision-making in the disability programs. We offer the following advice:

(1) Publicize reports from leadership of the Office of Vocational Resources Development (OVRD) on the project's activities, including continued updates regarding the progress with this initiative and strategic goals on agency Web sites and in public forum webinars and informational sessions, advertised in the Federal Register and agency sources;

(2) Announce all future strategic research and development plans, as well as findings from the project development and data collection efforts, to researchers for peer review;

(3) Continue to promote a venue for public comment and a repository for such comment; and,

(4) Engage and involve stakeholders and the scientific community in the review of research and development activities, as well as issues related to the analysis, usability, and integration of occupational data into the disability adjudication process.

The Science

The foundation upon which any occupational information database rests is its taxonomy of attributes to be measured and the scales that actually measure them. As with anything anyone builds, if the foundation is inadequate, the structure will fail. We reiterate the importance of developing a taxonomic content model that is strong enough to withstand legal challenge. We affirm our belief that:

(1) The taxonomy must comprehensively measure the world of work and those attributes applicable to disability adjudication;

(2) Internal staff trained and experienced in the scientific design and research, and also in disability adjudication application, must work together in this process;

(3) The scales used to measure these attributes must be absolute, cross job-relative, and psychometrically-sound;

(4) The occupational data must link to other national occupational employment databases through the structure of the Standard Occupational Classification;

(5) SSA adopts a carefully-designed sampling strategy that represents all jobs in the national economy (the Occupational Medical-Vocational study conducted by OVRD offers a good starting place);

(6) The sampling frame must adequately represent all geographically-diverse sectors of the economy, including emerging sectors, be periodically updated, and correspond to the data collection strategy;

(7) Data collection modes, subject matter experts, and the training and experience of those involved in data collection is a vital step in the development of data; thus, SSA should pay special attention to this phase of the project, and particularly to the qualifications and training of field job analysts, an area that presents the greatest threat to the validity of the data;

(8) SSA should test the resulting data with users for comparability and decision-making effects; and,

(9) SSA should periodically update the data to remain relevant and reflective of the world of work in the United States.

Failure to fully ensure the scientific veracity of the occupational taxonomy, data collection instrument, sampling strategy, and sources of data or data collection methods, will make SSA vulnerable to legitimate litigation.

The comment period is open through June 29, 2012.

Contact Information: Anyone requiring further information should contact the Panel staff at: Occupational Information Development Advisory Panel, Social Security Administration, 6401 Security Boulevard, 3-E-26 Robert M. Ball Building, Baltimore, MD 21235-0001. Fax: 410-597-0825. Email to OIDAP@ssa.gov. For additional information, please visit the Panel Web site at www.ssa.gov/oidap.

Leola S. Brooks,
Designated Federal Officer, Occupational Information Development Advisory Panel.

[FR Doc. 2012-15015 Filed 6-19-12; 8:45 am]

BILLING CODE 4191-02-P